OFFICE OF THE UNITED STATES TRADE REPRESENTATIVE

[Docket Number USTR-2024-0011]

Cancellation of Public Hearing Concerning Russia's Implementation of Its WTO Commitments

AGENCY: Office of the United States Trade Representative (USTR).

ACTION: Notice; cancellation of public hearing.

SUMMARY: The interagency Trade Policy Staff Committee (TPSC) sought public comments to assist USTR in the preparation of its annual report to Congress on Russia's compliance with its obligations as a Member of the World Trade Organization (WTO). Because USTR received no requests to testify, USTR is canceling the public hearing that was scheduled to take place on October 10, 2024.

DATES: The public hearing scheduled for October 10, 2024 is cancelled.

FOR FURTHER INFORMATION CONTACT: Silvia Savich, Deputy Assistant U.S. Trade Representative for Russia and Eurasia at Silvia.Savich@ustr.eop.gov or 202.395.2256.

SUPPLEMENTARY INFORMATION: On August 5, 2024, the TPSC sought public comments to assist USTR in the preparation of its annual report to Congress on Russia's compliance with its obligations as a Member of the WTO. See 89 FR 63463 (Aug 5, 2024). The notice included a September 18, 2024 deadline for the submission of written comments and requests to testify at a public hearing that was scheduled to take place on October 10, 2024. In response to the notice, USTR received two submissions and no requests to testify. Therefore, USTR is canceling the October 10, 2024 public hearing.

Laura Buffo,
Chair of the Trade Policy Staff Committee, Office of the United States Trade Representative.

[FR Doc. 2024-22165 Filed 9-26-24; 8:45 am]

BILLING CODE 3390-F4-P